ENVIRONMENTAL PROTECTION AGENCY

[ER-FRL-6691-9]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in FR dated April 6, 2007 (72 FR 17156).

Draft EISs

EIS No. 20070277, ERP No. D-CGD-E02013-AL, Bienville Offshore Energy Terminal Deepwater Port License Application, Proposes to Construct and Operate a Liquefied Natural Gas Receiving and Degasification Facility, Outer Continental Shelf of the Gulf of Mexico, South of Fort Morgan, AL

Summary

EPA expressed environmental objections to the open loop re-gasification system due to immediate and cumulative adverse impacts to waters and habitat. EPA recommends that the final EIS explore ways to incorporate the identified closed-loop submerged combustion vaporization and to further consider ambient air technology for re-heating the imported gas.

Rating EO2

EIS No. 20070291, ERP No. D-APH-A84031-00, PROGRAMMATIC—Introduction of Genetically Engineered (GE) Organisms, To Address Current and Future Technological Trends Resulting GE Plants, Implementation

Summary

EPA expressed environmental concerns about the proposed alternatives on issues related to GE organism Regulation, Permit Conditions, Interstate Movement and Shipping Standards. EPA requested additional information, data and analysis in the Final PEIS on the proposed alternatives for these issues.

Rating EC2

EIS No. 20070317, ERP No. D-FHW-B40099-NH, I-93 Exit 4A Interchange Study Derry-Londonderry Project, To Reduce Traffic Congestion Improve Safety for Public and Promote Economic Vitality, Rockingham County, NH

Summary

EPA expressed environmental objections to the proposed project due to its high potential to violate water quality standards. EPA requests additional stormwater analysis necessary to more fully describe potential impacts and to facilitate a discussion of mitigation measures. EPA also requests additional analysis of impacts to wetland resources and the potential for secondary development impacts associated with the commercial/industrial development that the project is intended to catalyze.

Rating EO2

EIS No. 20070331, ERP No. D-IBW-G36112-TX, PROGRAMMATIC—Rio Grande Flood Control Projects, Proposing a Range of Alternatives for Maintenances Activities and Future Improvements, along the Texas-Mexico Border.

Summary

EPA expressed environmental concerns about air quality impacts.

Rating EC2

EIS No. 20070351, ERP No. D-NSF-A12045-00, PROGRAMMATIC—Integrated Ocean Drilling Program—United States Implementing Organizations Participation in the Development of Scientific Ocean Drilling, IODP-USIO.

Summary

EPA has no objections to the proposed action.

Rating LO.

Final EISs

EIS No. 20070325, ERP No. F-NRC-B06006-MA, Generic—License Renewal of Nuclear Plants, Supplement 29 to NUREG-1437, Regarding the License Renewal of Pilgrim Nuclear Power Station, Cape Cod Bay, Town of Plymouth, Plymouth County, MA.

Summary

EPA expressed environmental concerns about the effectiveness of various mitigation measures to address adverse impacts from continued operation of Pilgrim over the relicensing period. EPA also continues to believe that more detailed information should be provided to describe the impacts of relicensing, to examine alternative operating modes, technologies, and mitigation measures.

EIS No. 20070335, ERP No. F-NRC-B06007-VT, Generic—License Renewal of Nuclear Plants, Supplement 30 to NUREG1437, Regarding Vermont Yankee Nuclear Power Station, Vernon, VT

Summary

EPA continues to express concerns about entrainment and impingement of fish and other aquatic organisms and impact from thermal discharge.

EIS No. 20070360, ERP No. F-BLM-J03020-00, Overland Pass Natural Gas Liquids Pipeline Project (OPP), Construction and Operation of 760 mile Natural Gas Liquids Pipeline, Right-of-Way Grant, KS, WY, and CO

Summary

While most of EPA's previous issues have been resolved, EPA continues to have environmental concerns about the water quality monitoring program.

EIS No. 20070378, ERP No. F-VAD-K11116-CA, Fort Rosecrans National Cemetery Annex, Construction and Operation, Located at Marine Corps Air Station (MCAS) Miramar, Point Loma, San Diego County, CA.

Summary

EPA continues to have environmental concerns about impacts to biological resources and continues to recommend additional compensation for these impacts.

EIS No. 20070387, ERP No. F-AFS-K65322-CA, Little Doe and Low Gulch Timber Sale Project, Proposes to Harvest Commercial Timber, Six Rivers National Forest, Mad River Ranger District, Trinity County, CA.

Summary

EPA has no objection to the proposed action.

Dated: October 9, 2007.
Ken Mittelholtz,
Environmental Protection Specialist, Office of Federal Activities.

[FR Doc. E7-20149 Filed 10-11-07; 8:45 am]

BILLING CODE 6560-50-P